DEPARTMENT OF DEFENSE

32 CFR Part 199

[DoD-2010-HA-0072]

RIN 0720-AB41

TRICARE; Reimbursement of Sole Community Hospitals and Adjustment to Reimbursement of Critical Access Hospitals; Correction

AGENCY: Office of the Secretary, Department of Defense (DoD).

ACTION: Final rule; correction.

SUMMARY: On Thursday, August 8, 2013 (78 FR 48303-48311), the Department of Defense published a final rule titled TRICARE; Reimbursement of Sole Community Hospitals and Adjustment to Reimbursement of Critical Access Hospitals. Subsequent to the publication of the final rule in the Federal Register, DoD discovered two errors. This rule corrects these errors.

DATES: Effective October 7, 2013.

FOR FURTHER INFORMATION CONTACT: Ann Fazzini, TRICARE Management Activity (TMA), Medical Benefits and Reimbursement Branch, telephone (303) 676-3803.

SUPPLEMENTARY INFORMATION:

1. On page 48308, in the first column, in the fifth and sixth lines from the top, “Avera Queen of Peach” should read “Avera Queen of Peace.”

2. On page 48309, in Table 2, in the State column, in the first entry, “FL” should read “NC.”

Dated: August 14, 2013.
Aaron Siegel,
Alternate OSD Federal Register Liaison Officer, Department of Defense.

[FR Doc. 2013-20179 Filed 8-19-13; 8:45 am]

BILLING CODE 5001-06-P